DEPARTMENT OF JUSTICE

National Institute of Corrections

Solicitation for a Cooperative Agreement—Policy-Driven Responses to Parole Violations

AGENCY: National Institute of Corrections, Department of Justice.

ACTION: Solicitation for a cooperative agreement.

SUMMARY: The Department of Justice (DOJ), National Institute of Corrections (NIC) announces the availability of funds in FY 01 for a cooperative agreement to assist up to six paroling authorities through the “Policy-Driven Responses to Parole Violations” project. State releasing authorities have the legal responsibility for paroled, conditional released and some mandatory released offenders. Often times the actions taken by releasing authorities in their response to violations leads to revocation proceeding, which contributes to prison crowding. It is intended that through this solicitation paroling authorities will have an opportunity to develop policy guided responses in confronting violations. This is not an announcement for applicants to receive technical assistance. The purpose of this announcement is to select an awardee who will, in conjunction with the National Institute of Corrections, select the six paroling authorities, and plan and coordinate the work.

Background

The response to violations by offenders who are serving the remaining portion of their sentence in the community and under the control of a releasing authority has become a major correctional issue. Over all, commitment rates to prison for new offenses has leveled off or are declining, while at the same time prison populations continue to increase. Much of this increase has been the results of parole and probations violators coming to prison as the results of having their supervision period revoke by either a judge or a parole board. There appears to be a high reliance on incarceration or re-incarceration by decision makers in responding to the behaviors of the offender. There have been a variety of studies which seem to indicate that the appropriateness in responding to violations committed by the offender have a greater likelihood of success if the response is directly related the risk/need of that offender and incarceration in many instances may be the least effective response. Although, a complete analysis has not been done, the idea of equity, fairness and consistency in the revocation process should be explored to determine how and why and under what conditions certain decisions are made.

Project Objectives

This project will provide technical assistance to up to six paroling authorities that are committed to improving the effectiveness and efficiency of the way they respond to offenders who violate rules and/or conditions of parole, this includes both discretionary and mandatory release supervision. The project may also include enhancing policies governing rescission practices. (the cancellation of a presumptive release date) The intent of this project is to take into consideration the following:

1. The thorough analysis of current practice to determine the quantity and quality of data required/available for decision making information and the level of commitment of decision makers to use it.

2. Insure key decision makers are aware/knowledgeable of research evidence based on criminogenic need.

3. Provide key decision makers with information regarding program level/options for sanctioning/intervening in violation behavior based on assessed risk and responding to criminogenic need.

4. Forge/initiate working relationship with other criminal justice practitioners involved in the revocation process to attain common policy.

5. Articulate written policy on violation and revocation practices that the Board will consistently enforce/carry out with the assistance of other key community justice practitioners.

6. Implement data gathering regarding policy decisions.

Scope of Work

The response to violations involves the exercise of discretion by individuals from several organizations, and seldom has this complicated process been analyzed by individual states to fully understand its impact. The receipt must have the ability to work individually and jointly with parole boards, agency administrators, supervision staff, and treatment and service providers, in order to effectively manage policy development teams. The intent is that the recipient of this award will take into consideration the research and the practical knowledge of responding to violations, and from that knowledge base, assist states to develop policy driven practices for organizations to follow. The resulting effect should allow for a more rational utilization of prison space, staff allocation (both in the field and correctional facilities) and create a meaningful return on the investment the state makes in corrections.

The recipient of this cooperative agreement must prepare a proposal that describes their plan to meet the goals/objective which should include a schedule identifying benchmarks of significant tasks in chart form. Applicants must identify their key project staff and the relevant expertise of each. Also, the application should indicate how it will work with NIC on an announcement for marketing this project; develop selection criteria; and compile information on applicants making application. The proposal should present a methodology or approach that the applicant proposes to employ in providing technical assistance to 6 paroling authorities that would incorporate the following and other elements deemed appropriate to accomplishing the objectives of the project:

• The process for taking decision makers through analysis of past practices for parole violations including what data, information and decision making policies and practices should be identified, collected and analyzed.

• Develop descriptions of acceptable responses to a range of violation behaviors and identify the various sanctions and interventions strategies to consider.

• Develop future outcome or performance measures for a policy-driven parole violation process.

• Determine which dynamic screening, classification and assessment system(s) may contribute to improved violation decision-making and how and when such systems should be used.

• Develop a plan to design, implement and operate interventions consistent with the principles of effective interventions aimed at reducing risk by confronting parole violators criminogenic needs.

Authority: Public Law 93-415.

Funds Available: This is a cooperative agreement. A cooperative agreement is a form of assistance relationship through which the National Institute of Corrections is involved during the performance of the award. The award is made to an organization who, in concert with the Institute, will solicit and select participating jurisdictions and provide them with technical assistance. No funds are transferred to state or local government. The Community Corrections Division will provide the financial assistance in the form of a cooperative agreement to an agency or organization, who makes application. This initiative emphasizes policy development by paroling authorities in partnership with supervision staff and service delivery organizations. The award will be limited to $250,000 (direct and indirect cost) and project activity must be completed within 18 months of the date of award. Funds may not be used for construction, or to acquire or build real property. This project will be a collaborative venture with the NIC Community Correction Division.

Deadline for Receipt of Applications: Applications must be received by 4:00 p.m. on Thursday, February 28, 2001. They should be addressed to: Director, National Institute of Corrections, 320 First Street, NW, Room 5007, Washington, DC 20534. Hand delivered applications should be brought to 500 First Street, NW, Washington, DC 20534. The front desk will call Bobbi Tinsley at (202) 307-3106 extension 0 for pickup.

Addresses and Further Information: Request for application kit, which includes application forms and a copy of this announcement, should be directed to Judy Evens, Cooperative Agreement Control Office, National Institute of Corrections, 320 First Street, NW, Room 5007, Washington, DC 20534 or by calling 800-995-6423, ext. 159 or 202-307-3106, ext. 159, or email: jevens@bop.gov. A copy of this announcement and application forms may also be obtained through the NIC web site: http//www.nicic.org (click on “Cooperative Agreements”). All technical and/or programmatic questions concerning this announcement should be directed to Cranston J. Mitchell, Corrections Program Specialist at 320 First Street, NW, Room 5007, Washington, DC 20534 or by calling 800-995-6423, ext. 153 or 202-307-3106, ext. 153, or by email: cjmitchell@bop.gov.

Eligibility Applicants: An eligible applicant is any state or general unit of local government, public or private agency, educational institution, organization, team, or individual with the requisite skills to successfully meet the outcome objectives of the project.

Review Considerations: Applications received under this announcement will be subjected to an NIC 3 to 5 member review process.

Number of Awards: One (1).

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one state.

NIC Application Number: 01C06 This number should appear as a reference line in your cover letter and also in box 11 of Standard form 424.

Catalog of Federal Domestic Assistance Number: 16.603

Dated: January 9, 2001.
Morris L. Thigpen,
Director, National Institute of Corrections.

[FR Doc. 01-1209 Filed 1-12-01; 8:45 am]

BILLING CODE 4410-36-M